ENVIRONMENTAL PROTECTION AGENCY

[ER-FRL-6652-1]

Environmental Impact Statements; Notice of Availability

Responsible Agency: Office of Federal Activities, General Information (202) 564-7167 or http://www.epa.gov/compliance/nepa/. Weekly receipt of Environmental Impact Statements Filed May 24, 2004 Through May 28, 2004 Pursuant to 40 CFR 1506.9.

EIS No. 040250, Final EIS, AFS, NE, Pine Ridge Geographic Area Rangeland Allotment Management Planning, To Permit Livestock Grazing on 34 Allotments, Nebraska National Forest, Pine Ridge Ranger District, Dawes and Sioux Counties, NE. Wait Period Ends: July 6, 2004, Contact: Jeffery S. Abegglen (308) 432-4475.

EIS No. 040251, Final Supplement, FHW, MI, US-31 Freeway Connection to I-94, Napier Avenue to I-94 Transportation Improvements, Berrien County, MI, Wait Period Ends: July 6, 2004, Contact: James Kirschensteiner (517) 702-1835.

EIS No. 040252, Final Supplement, AFS, NM, Agua/Caballos Timber Sale, Timber Harvest and Existing Vegetation Management, Implementation, Carson National Forest, EL Rito Ranger District, Taos County, NM, Wait Period Ends: July 6, 2004, Contact: Kurt Winchester (505) 758-6310. This document is available on the Internet at: http://www.fs.fed.us/r3/carson/htm1_main/list_planning.htm1.

EIS No. 040253, Draft EIS, FHW, ID, Fernan Lake Safety Improvement Project, Proposal to Reconstruct or Resurface 17.2 km (10.7 mi) Idaho Forest Highway 80 (ID PFH 80) commonly known as Fernan Lake Road, Right-of-Way Permit, Idaho Panhandle National Forests, Coeur d' Alene River Ranger District, Kootenai County, ID, Comment Period Ends: July 31, 2004, Contact: Sajiad Aftab (360) 619-7895. This document is available on the Internet at: http://www.wfl.fhwa.dot.gov/projects/fernan/.

EIS No. 040254, Final EIS, FRC, TX, Freeport Liquefied Natural Gas (LNG) Project, To Deliver Imported Liquefied Natural Gas to Shippers, Authorization of Site, Construction and Operation, Stratton Ridge Meter Station 2007, City of Freeport, Brazoria County, TX, Wait Period Ends: July 6, 2004, Contact: Thomas Russo (866) 208-3372.

EIS No. 040255, Draft Supplement, FHW, WA, Southeast Issaquah Bypass, Updated Information, Issaquah-Hobart Road in the South with I-90 at the Sunset Interchange, Right-of-Way Permit, NPDES Permit and U.S. Army COE Section 404 Permit, King County, WA, Comment Period Ends: July 30, 2004, Contact: Peter U. Eun (360) 753-9551.

EIS No. 040256, Final EIS, AFS, OR, Biscuit Fire Recovery Project, Various Management Activities Alternatives, Implementation, The Rogue River and Siskiyou National Forests, Josephine and Curry Counties, OR, Wait Period Ends: July 6, 2004, Contact: Tom Link (541) 471-6500. This document is available on the Internet at: http//www.biscuitfire.com.

EIS No. 040257, Draft EIS, FTA, NY, NJ, Permanent World Trade Center (WTC) PATH Terminal Project, Reconstruction of a Permanent Terminal at the WTC Site in Lower Manhattan, Port Authority Trans-Hudson (PATH), Several Permits Required for Approval, The Port Authority of New York and New Jersey, NY and NJ, Comment Period Ends: July 21, 2004, Contact: Bernard Cohen (212) 668-1770. The document is available on the Internet at: http://www.panynj.gov/pathrestoration.

EIS No. 040258, Final EIS, UAF, Air Force Mission at Johnston Atoll Airfield (Installation) Termination, Implementation, Johnston Atoll is an Unincorporated Territory of the United States, Wait Period Ends: July 6, 2004, Contact: Patricia Vokoun (703) 604-5263.

EIS No. 040259, Final EIS, NOA, AK, Programmatic EIS—Alaska Groundfish Fisheries, New Information concerning the Ecosystem and a Preferred Alternative, Fishery Management Plans for the Groundfish Fishery of the Gulf of Alaska and the Groundfish of the Bering Sea and Aleutian Islands Area, North Pacific Fishery Management Council, AK, Wait Period Ends: July 6, 2004, Contact: James W. Balsiger (907) 586-7221. This document is available on the Internet at: http://www.fakr.noaa.gov.

EIS No. 0240260, Final EIS, BLM, WY, Desolation Flats Natural Gas Field Development Project, Drilling Additional Development Wells, Carbon and Sweetwater Counties, WY, Wait Period Ends: July 6, 2004, Contact: David Simons (307) 367-5309. This document is available on the Internet at: http://www.wy.blm.gov/nepadocs.htm.

Amended Notices

EIS No. 040027, Draft EIS, IBR, NE, CO, WY, Programmatic EIS—Platte River Recovery Implementation Program, Assessing Alternatives, Cooperative, Endangered Species Recovery Program, The Four Target Species are Whooping Crane, Interior Least Tern, Piping Plover and Pallid Sturgeon, NE, WY and CO, Comment Period Ends: August 20, 2004, Contact: Curt Brown (303) 445-2096. Revision of FR Notice Published on 1/30/2004: CEQ Comment Period Ending on 06/2/2004 has been Extended to 8/20/2004.

EIS No. 040222, Draft EIS, DOE, CA, Imperial-Mexicali 230-kV Transmission Lines, Construct a Double-Circuit 230-kV Transmission Line, Presidential Permit and Right-of-Way Grants, Imperial Valley Substation to Calexico at the U.S.-Mexico Border, Imperial County, CA and U.S.-Mexico Border, Comment Period Ends: July 30, 2004, Contact: Ellen Russell (202) 586-7624. Revision of FR Notice Published on 5/14/2004: CEQ Comment Period Ending 6/30/2004 has been Extended to 7/30/2004.

EIS No. 040233, Revised Final EIS, BLM, NM, Sierra and Otero Counties Resource Management Plan Amendment and Federal Fluid Minerals Leasing and Development, Additional Information to Improve the Public Understanding of the Proposed Plan, Implementation, Sierra and Otero Counties, NM, Wait Period Ends: June 23, 2004, Contact Tom Phillips (505) 525-4377. Revision of FR Notice Published on 5/21/2004: Correction to Contact Person Telephone Number.

Dated: June 1, 2004.
Ken Mittelholtz,
Environmental Protection Specialist, Office of Federal Activities.

[FR Doc. 04-12705 Filed 6-3-04; 8:45 am]

BILLING CODE 6560-50-P